DEPARTMENT OF HOUSING AND URBAN DEVELOPMENT

[Docket No. FR-6479-N-02]

Fair Market Rents for the Housing Choice Voucher Program, Moderate Rehabilitation Single Room Occupancy Program, and Other Programs, Fiscal Year 2025; Revised

AGENCY: Office of the Assistant Secretary for Policy Development and Research, Department of Housing and Urban Development, HUD.

ACTION: Notice of revised fiscal year (FY) 2025 Fair Market Rents (FMRs).

SUMMARY: This notice updates the FY 2025 FMRs for several areas based on new survey data.

DATES: The revised FY 2025 FMRs are effective on April 28, 2025.

FOR FURTHER INFORMATION CONTACT: Adam Bibler, telephone 202-402-6057. Questions related to the use of FMRs or voucher payment standards should be directed to the respective local HUD program staff. For technical information on the methodology used to develop FMRs or a listing of all FMRs, please call the HUD USER information line at 800-245-2691 (toll-free), email the Program Parameters and Research Division at pprd@hud.gov, or access the information on the HUD USER website: http://www.huduser.gov/portal/datasets/fmr.html. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On August 14, 2024, HUD published in the Federal Register the FY 2025 FMRs, requested comments on the FY 2025 FMRs, and outlined procedures for requesting a reevaluation of an area's FY 2025 FMRs, available at 89 FR 66127. This notice revises FY 2025 FMRs for several areas based on data provided to HUD.

I. Revised FY 2025 FMRs

The updated FY 2025 FMRs appear in the following table. The FMRs are based on surveys conducted by the area public housing agencies (PHAs) and reflect the estimated 40th percentile rent levels trended to FY 2025.

The FMRs for the affected areas are revised as follows:

2025 Fair Market Rent area | 0 BR | 1 BR | 2 BR | 3 BR | 4 BR
San Luis Obispo-Paso Robles-Arroyo Grande, CA MSA | $1,669 | $1,855 | $2,434 | $3,250 | $3,683
Santa Maria-Santa Barbara, CA MSA | 2,381 | 2,688 | 3,028 | 4,011 | 4,468
Santa Rosa, CA MSA | 1,879 | 2,089 | 2,740 | 3,743 | 3,960
Boston-Cambridge-Quincy, MA-NH HUD Metro FMR Area | 2,263 | 2,394 | 2,837 | 3,418 | 3,761
Beaverhead County, MT | 762 | 937 | 1,038 | 1,454 | 1,743
Big Horn County, MT | 926 | 962 | 1,262 | 1,610 | 1,862
Billings, MT HUD Metro FMR Area | 1,013 | 1,062 | 1,373 | 1,888 | 2,124
Blaine County, MT | 841 | 874 | 1,147 | 1,382 | 1,830
Broadwater County, MT | 1,243 | 1,426 | 1,694 | 2,041 | 2,703
Carter County, MT | 884 | 991 | 1,205 | 1,452 | 1,922
Chouteau County, MT | 929 | 965 | 1,266 | 1,536 | 1,899
Custer County, MT | 1,068 | 1,188 | 1,558 | 2,140 | 2,148
Daniels County, MT | 728 | 762 | 992 | 1,356 | 1,583
Dawson County, MT | 891 | 934 | 1,215 | 1,464 | 1,827
Deer Lodge County, MT | 768 | 946 | 1,047 | 1,467 | 1,729
Fallon County, MT | 996 | 1,044 | 1,358 | 1,856 | 2,167
Fergus County, MT | 1,029 | 1,069 | 1,402 | 1,840 | 2,237
Flathead County, MT | 1,202 | 1,249 | 1,639 | 2,184 | 2,752
Gallatin County, MT | 1,448 | 1,626 | 2,087 | 2,924 | 3,453
Garfield County, MT | 781 | 818 | 1,065 | 1,286 | 1,699
Glacier County, MT | 950 | 1,051 | 1,236 | 1,529 | 1,915
Golden Valley County, MT | 952 | 989 | 1,298 | 1,786 | 2,071
Granite County, MT | 748 | 827 | 1,020 | 1,429 | 1,627
Great Falls, MT MSA | 903 | 948 | 1,244 | 1,743 | 1,977
Hill County, MT | 929 | 1,003 | 1,266 | 1,672 | 1,678
Jefferson County, MT | 933 | 1,037 | 1,361 | 1,907 | 2,171
Judith Basin County, MT | 825 | 864 | 1,124 | 1,383 | 1,793
Lake County, MT | 1,055 | 1,077 | 1,400 | 1,766 | 1,856
Lewis and Clark County, MT | 1,094 | 1,259 | 1,596 | 2,106 | 2,397
Liberty County, MT | 735 | 770 | 1,002 | 1,404 | 1,599
Lincoln County, MT | 832 | 1,024 | 1,134 | 1,589 | 1,904
Madison County, MT | 1,139 | 1,147 | 1,492 | 1,798 | 2,505
McCone County, MT | 1,100 | 1,153 | 1,500 | 2,050 | 2,393
Meagher County, MT | 990 | 1,037 | 1,350 | 1,845 | 2,154
Mineral County, MT | 968 | 1,043 | 1,319 | 1,589 | 1,919
Missoula, MT MSA | 1,121 | 1,339 | 1,604 | 2,248 | 2,694
Musselshell County, MT | 956 | 1,011 | 1,303 | 1,826 | 2,188
Park County, MT | 1,066 | 1,306 | 1,555 | 2,162 | 2,611
Petroleum County, MT | 1,100 | 1,153 | 1,500 | 2,050 | 2,393
Phillips County, MT | 691 | 851 | 942 | 1,320 | 1,503
Pondera County, MT | 891 | 1,097 | 1,215 | 1,549 | 1,904
Powder River County, MT | 729 | 764 | 994 | 1,393 | 1,586
Powell County, MT | 806 | 844 | 1,098 | 1,539 | 1,752
Prairie County, MT | 1,100 | 1,153 | 1,500 | 2,050 | 2,393
Ravalli County, MT | 1,090 | 1,098 | 1,379 | 1,932 | 2,316
Richland County, MT | 932 | 1,148 | 1,271 | 1,531 | 2,134
Roosevelt County, MT | 848 | 887 | 1,164 | 1,402 | 1,857
Rosebud County, MT | 843 | 947 | 1,149 | 1,570 | 1,929
Sanders County, MT | 821 | 884 | 1,080 | 1,386 | 1,814
Sheridan County, MT | 861 | 972 | 1,174 | 1,637 | 1,643
Silver Bow County, MT | 945 | 1,077 | 1,370 | 1,920 | 2,191
Stillwater County, MT HUD Metro FMR Area | 877 | 928 | 1,218 | 1,705 | 2,045
Sweet Grass County, MT | 836 | 902 | 1,140 | 1,597 | 1,819
Teton County, MT | 967 | 1,190 | 1,318 | 1,746 | 1,975
Toole County, MT | 875 | 1,013 | 1,192 | 1,670 | 1,902
Treasure County, MT | 1,100 | 1,153 | 1,500 | 2,050 | 2,393
Valley County, MT | 853 | 886 | 1,163 | 1,479 | 1,747
Wheatland County, MT | 794 | 832 | 1,082 | 1,408 | 1,726
Wibaux County, MT | 1,100 | 1,153 | 1,500 | 2,050 | 2,393
New York, NY HUD Metro FMR Area | 2,406 | 2,511 | 2,780 | 3,465 | 3,738

HUD has published these revised FMR values on the HUD USER website at: http://www.huduser.gov/portal/datasets/fmr.html. In addition, HUD has updated the FY 2025 Small Area FMRs (SAFMRs) for metropolitan areas with revised FMRs, which can be found at https://www.huduser.gov/portal/datasets/fmr/smallarea/index.html. HUD has also updated the 50th percentile rents for all affected FMR areas, which are published at http://www.huduser.gov/portal/datasets/50per.html.

II. Environmental Impact

This notice involves the establishment of Fair Market Rent schedules and does not constitute a development decision affecting the physical condition of specific project areas or building sites. Accordingly, under 24 CFR 50.19(c)(6), this notice is categorically excluded from environmental review under the National Environmental Policy Act of 1969 (42 U.S.C. 4321).

John Gibbs,
Principal Deputy Assistant Secretary for Policy Development and Research.

[FR Doc. 2025-05345 Filed 3-27-25; 8:45 am]

BILLING CODE 4210-67-P